DEPARTMENT OF COMMERCE

National Oceanic and Atmospheric Administration

RIN 0648-XA173

Endangered Species; File No. 15552

AGENCY: National Marine Fisheries Service (NMFS), National Oceanic and Atmospheric Administration (NOAA), Commerce.

ACTION: Notice; receipt of application.

SUMMARY: Notice is hereby given that the National Marine Fisheries Service Southeast Fisheries Science Center (SEFSC) [Bonnie Ponwith: Responsible Party], 75 Virginia Beach Drive, Miami, FL 33149, has applied in due form for a permit to take green (Chelonia mydas), hawksbill (Eretmochelys imbricata), loggerhead (Caretta caretta), Kemp's ridley (Lepidochelys kempii), olive ridley (Lepidochelys olivacea), leatherback (Dermochelys coriacea), and unidentified hardshell sea turtles for purposes of scientific research.

DATES: Written, telefaxed, or e-mail comments must be received on or before February 25, 2011.

ADDRESSES: The application and related documents are available for review by selecting “Records Open for Public Comment” from the Features box on the Applications and Permits for Protected Species (APPS) home page, https://apps.nmfs.noaa.gov, and then selecting File No. 15552 from the list of available applications.

These documents are also available upon written request or by appointment in the following offices:

Permits, Conservation and Education Division, Office of Protected Resources, NMFS, 1315 East-West Highway, Room 13705, Silver Spring, MD 20910; phone (301) 713-2289; fax (301) 713-0376; and

Southeast Region, NMFS, 263 13th Avenue South, Saint Petersburg, Florida 33701; phone (727) 824-5312; fax (727) 824-5309.

Written comments on this application should be submitted to the Chief, Permits, Conservation and Education Division, at the address listed above. Comments may also be submitted by facsimile to (301) 713-0376, or by e-mail to NMFS.Pr1Comments@noaa.gov. Please include the File No. in the subject line of the email comment.

Those individuals requesting a public hearing should submit a written request to the Chief, Permits, Conservation and Education Division at the address listed above. The request should set forth the specific reasons why a hearing on this application would be appropriate.

FOR FURTHER INFORMATION CONTACT: Colette Cairns or Amy Hapeman, (301) 713-2289.

SUPPLEMENTARY INFORMATION: The subject permit is requested under the authority of the Endangered Species Act of 1973, as amended (ESA; 16 U.S.C. 1531 et seq.) and the regulations governing the taking, importing, and exporting of endangered and threatened species (50 CFR 222-226).

The proposed research would allow the applicant to monitor the take of green, loggerhead, hawksbill, leatherback, Kemp's ridley, olive ridley, and unidentified hardshell sea turtles by observed commercial fisheries and collect data to estimate bycatch and its effects on sea turtle sub-populations. Annually, up to 94 green, 731 loggerhead, 163 Kemp's ridley, 76 hawksbill, 255 leatherback, and 120 olive ridley/unknown hardshell sea turtles would be handled, identified, photographed, measured, weighed, flipper and passive integrated transponder tagged, temporarily marked, skin biopsied, and released. The permit would authorize SEFSC certified observers to collect data on juvenile, sub-adult, and adult sea turtles incidentally captured in commercial fisheries in the Gulf of Mexico and the East coast of the United States. These efforts would aid in the development and refinement of management efforts to recover these species. The sampling would be conducted year-round for five years from the date of issuance of the permit.

Dated: January 21, 2011.
P. Michael Payne,
Chief, Permits, Conservation and Education Division, Office of Protected Resources, National Marine Fisheries Service.

[FR Doc. 2011-1632 Filed 1-25-11; 8:45 am]

BILLING CODE 3510-22-P